DEPARTMENT OF LABOR

Employment and Training Administration

Proposed Information Collection Submitted for Public Comment and Recommendations: Surveys of Registered Apprenticeship Sponsors

ACTION: Notice.

SUMMARY: The Department of Labor, as part of its continuing effort to reduce paperwork and respondent burden, conducts a pre-clearance consultation program to provide the general public and Federal agencies with an opportunity to comment on proposed collections of information in accordance with the Paperwork Reduction Act of 1995 (44 U.S.C. 3506(c)(2)(A)). This program helps to ensure that requested data can be provided in the desired format, reporting burden (time and financial resources) is minimized, collection instruments are clearly understood, and the impact of the collection requirements on respondents can be properly assessed.

DATES: Submit comments on or before October 6, 2006.

ADDRESSEE: Send comments to Ms. Charlotte Schifferes, Employment and Training Administration, U.S. Department of Labor, 200 Constitution Avenue, NW., Room N-5637, Washington, DC 20210; (202) 693-3655 (this is not a toll-free number); e-mail: schifferes.charlotte@dol.gov; and fax: (202) 693-2766 (this is not a toll-free number).

FOR FURTHER INFORMATION: Contact Ms. Charlotte Schifferes, Employment and Training Administration, U.S. Department of Labor, 200 Constitution Avenue, NW., Room N-5637, Washington, DC 20210; (202) 693-3655 (this is not a toll-free number); e-mail: schifferes.charlotte@dol.gov; and fax: (202) 693-2766 (this is not a toll-free number).

SUPPLEMENTARY INFORMATION:

I. Background

The Department of Labor (DOL) is soliciting comments regarding a one-time survey of sponsors of registered apprenticeship programs.

Registered apprenticeship is a time-tested training method, involving hands-on instruction by experienced workers, a jobsite mentor, and related classroom instruction, all within a framework that identifies needed skills and provides recognized credentials. Apprenticeship programs are financed, sponsored, and implemented primarily by private sector employers and their workers, thus presenting minimal costs to the taxpayer. Programs may be sponsored unilaterally by employers or jointly by employers and unions. There are currently about 28,800 programs with an estimated 413,000 registered apprentices in the U.S.

DOL in accordance with the 1937 National Apprenticeship Act, is responsible for promoting the apprenticeship concept, assisting interested employers in developing apprenticeship programs, recognizing State Apprenticeship Agencies and Councils, registering apprenticeship programs and agreements, certifying registered apprentices, and monitoring registered programs and apprentices. In the last five years, the Department has focused on expanding use of registered apprenticeship in high-growth industries and new occupations. These promotional efforts have been an important element in the broader DOL initiative to create a demand-driven workforce system responsive to employer needs and successful in developing worker talent.

The proposed survey will be conducted by telephone and Internet with about 1,400 sponsors, of whom 80 percent, or 1,100 individuals, are expected to respond. A random stratified sample will be used to ensure broad representation nationally and to permit detailed information on the views of sponsors in clusters of industries, including those identified in the President's High Growth Job Training (HGJT) Initiative. Examples of newer industries identified in this initiative are Aerospace, Geospatial, and Health Services, among many others.

The information from the survey will provide a thorough and systematic understanding of sponsors' views, identifying what they value, dislike, or would like changed about registered apprenticeship; what they see as its main benefits and costs; what data they maintain on it; and how they interface with other parts of the workforce system. The data will show how, if at all, views differ by type of industry, number of apprentices, by type of program (unilateral or joint), or region.

The data collection will fill a gap in knowledge, since there is no systematic information on the views of sponsors in general nor of sponsors in high-growth industries who have recently embraced apprenticeship as a training method. The survey is part of a larger evaluation that will also involve on-site discussions in five states with key stakeholders. In each state, the contractor will talk in depth with apprentices, sponsors, state apprenticeship administrators, One-Stop Career Center directors, and community college officials involved in providing related instruction to apprentices.

The information collected in the survey, combined with findings from the site visits, will be used by the Department to inform policy development on registered apprenticeship, including how to make the system more responsive to employers and to further expand registered apprenticeship in high growth industries. The information will also be used to determine what data is available for possible impact or benefit-cost studies.

Section 172 of WIA is the authority under which the Employment and Training Administration (ETA) will collect the information proposed in this evaluation.

II. Desired Focus of Comments

Currently, ETA is soliciting comments, concerning the proposed survey of registered apprenticeship sponsors, that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

Type of Review: New

Agency: Employment and Training Administration.

Title: Survey of Registered Apprenticeship Program Sponsors.

OMB Number: New collection.

Affected Public: Sponsors of registered apprenticeship training programs, which may include small businesses.

Respondents and Burden Hours: The number of respondents who complete the interview is expected to be 1,144. The annual hour burden is calculated to be 324 hours, based on 1,144 respondents and a survey length of 17 minutes.

Total Burden Cost for capital and startup: $0.

Total Burden Cost for operation and maintenance: $0.

Comments submitted in response to this comment request will be summarized and/or included in the request for OMB approval of the information collection request; they will also become a matter of public record.

Dated: July 31, 2006.
Emily Stover DeRocco,
Assistant Secretary, Employment and Training Administration.

[FR Doc. E6-12737 Filed 8-4-06; 8:45 am]

BILLING CODE 4510-30-P